DEPARTMENT OF THE TREASURY

Submission for OMB Review; Comment Request

October 18, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 27, 2002 to be assured of consideration.

Departmental Offices/Office of the Assistant Secretary (Financial Institutions)/First Accounts Program

OMB Number: 1505-0188.

Form Number: None.

Type of Review: Extension.

Title: First Accounts Program Agreement for Grants.

Description: The Department of the Treasury (Treasury) seeks to continue to collect financial and project performance information from First Accounts grantees. Respondents are Non-Profit Organizations, For-Profit Organizations and a Local Government. The information collected will be used to verify grantee compliance with the terms of the Grant Agreement entered into between Treasury and each grantee.

Respondents: Not-for-profit institutions, Business or other for-profit, State, Local or Tribal Government.

Estimated Number of Respondents/Recordkeepers: 15.

Estimated Burden Hours Per Respondent/Recordkeeper: 25 hours.

Frequency of Response: On Occasion, Quarterly, Annually.

Estimated Total Reporting/Recordkeeping Burden: 555 hours.

Clearance Officer: Lois K. Holland (202) 622-1563, Departmental Offices, Room 11000, 1750 Pennsylvania Avenue, NW., Washington, DC 20220.

OMB Reviewer: Joseph F. Lackey, Jr. (202) 395-7316, Office of Management and Budget, Room 10235, New Executive Office Building, Washington, DC 20503.

Lois K. Holland,
Departmental PRA Clearance Officer.

[FR Doc. 02-27304 Filed 10-25-02; 8:45 am]

BILLING CODE 4811-16-P